POSTAL SERVICE

39 CFR Part 111

Folded Self-Mailers and Unenveloped Mailpieces

AGENCY: Postal Service ™.

ACTION: Final rule.

SUMMARY: The Postal Service will revise Mailing Standards of the United States Postal Service, Domestic Mail Manual (DMM®) 201.3.14, to provide new standards for folded self-mailers (FSM) and unenveloped mailpieces that are mailed at automation or machinable prices. To avoid confusion with revised standards for FSM mailpieces having loose enclosures, the Postal Service renames mailpieces that are designed to carry discs, and expands the standards that apply to tabs to include folded self-mailers.

DATES: Effective January 5, 2013.

FOR FURTHER INFORMATION CONTACT: Craig Vance (202) 268-7595 or Susan Thomas (202) 268-8069.

SUPPLEMENTARY INFORMATION: On August 15, 2011, the Postal Service published a Federal Register proposed rule (76 FR 50438-50441) for changes to the design and construction of folded self-mailers and unenveloped mailpieces that are mailed at automation or machinable prices. The proposed standards were issued after two years of collaborative work with mailers to analyze and test a wide variety of folded self-mailer letter-size designs. In response to the proposed standards, the Postal Service received 51 comments. Many of those who commented provided input on more than one aspect of the proposal. Each comment was given consideration and modifications were made to the proposed standards when possible. This final rule will be adopted based on our proposed rule with only minor revisions. These standards do not apply to cards, envelopes, booklet style letters, or mailpieces designed to carry discs.

General

The final rule includes DMM recommendations for design elements and sealing methods for FSMs. To avoid confusion about the types of mailpieces included in this change, the Postal Service renames mailpieces that are designed to carry discs in 201.3.4. To simplify the requirements that apply to tabs that can be used to seal unenveloped letter-sized mailpieces, DMM 201.3.11 is modified to include folded self-mailers. The final rule also includes recommended revisions to the proposed requirements based on observations of a wide variety of FSMs tested over the past several years.

Although the effective date of these revisions is not until January 5, 2013, we encourage all customers who prepare FSMs mailed at automation or machinable prices to begin conversion to these design concepts as soon as possible.

Definition

A folded self-mailer is formed of panels that are created when one or more unbound sheets of paper are folded together and sealed to make a letter-size mailpiece. The number of sheets in the mailpiece and the number of the times the sheets are folded determine the number of panels. Sheets that are bound by one or more staples are not considered folded self-mailers even when all other preparation recommendations are met.

Physical Characteristics

The maximum height for all automation and machinable FSMs is 6 inches and the maximum length is 10½ inches, with a maximum thickness of ¼ inch. The maximum weight of three ounces is applicable to all mailpieces prepared without envelopes.

The paper basis weight for folded self-mailers is based on book-grade paper unless otherwise specified and varies depending on the total weight of the mailpiece and/or optional elements that are incorporated in the design. The final fold must be at the bottom for all designs except oblong style pieces. For oblong-style FSMs the final fold is on the leading edge. Tabs cannot be placed on the bottom open edge of an oblong-style FSM.

A minimum of two tabs will be required to seal all FSMs when tabs are used as the sealing method. Tabs used as seals may not have perforations. Glue may be used as an alternate sealing method when applied according to the standards for FSMs.

After January 5, 2013, folded self-mailers that do not meet these requirements will be assessed postage as follows: First-Class Mail® and Standard Mail® customers will pay nonmachinable prices; Periodicals mailers will pay nonbarcoded prices.

Overview of Comments

Eleven commenters recommended that the proposed standards be abandoned and asked that no changes to the existing mailpiece format be made at this time. The commenters cited the economy and the lack of equipment capable of producing the types of designs expressed in the proposed standards. Commenters were also concerned about time and cost incurred for mailpieces that may already be designed and produced, but not mailed. Many new formats and sealing requirements not defined in current standards for FSM are added. To accommodate the mailing industry, the Postal Service will delay adoption of the new standards until January 5, 2013. This postponement will provide enough time for mailers to complete outstanding contracts for mailpieces that do not meet the new standards and will allow those pieces to be entered as automation compatible folded self-mailers prior to the effective date.

Mailers entering FSMs before the effective date are encouraged to design and prepare their mailpieces using these standards.

Four commenters expressed concern regarding the Postal Service's proposal to require an additional tab on mailpieces weighing more than one ounce. As pieces get thicker and heavier it becomes more difficult for those pieces to pass through processing equipment. The mailpieces do not retain their integrity and cause jams and damage to the mail and processing equipment. Heavier weight FSMs experience more stress on the leading edge, especially when it is not a folded edge. An additional tab placed on the lower leading edge improves efficient feed capability and serves as added protection for the mailpiece during processing. The additional tab also maintains closure as pieces are handled and processed multiple times. Until January 5, 2013, three tabs are recommended to maintain sufficient sealing and to provide additional protection for heavier mailpieces and specific design formats.

Three commenters asked why it is necessary to limit the number of panels within an FSM. The number of panels affects the shape, thickness, and ability to create crisp folds required to maintain a streamlined shape. It also reduces the amount of stress placed on closures, and maintains the integrity of a mailpiece from acceptance to delivery. However, in order to provide increased options and ability to qualify for automation letter prices, the Postal Service will increase the allowed panel count to 12 for FSMs constructed of non-newsprint paper. Additionally, to accommodate the common practice of including half-pages in quarter-fold pieces made with newsprint paper, we increase the panel count for quarter-fold FSMs to a maximum of 24 panels.

Seven commenters expressed concern about the 10½ inch-maximum length requirement. They expressed concern because smaller sizes will decrease the amount of space available to print advertising in a single mailpiece, and in some cases stock mailpieces will need to be redesigned to conform to the new size requirements. The FSM study revealed that, similar to booklets, mailpieces that exceeded 9 inches in length experienced a decline in machinability with significantly higher rates of damage and jams. The Postal Service maintains the proposed maximum length of 10½ inches to balance the need for machinability with the customer's need for the maximum amount of usable space.

Eight commenters questioned the thickness standards of .05 and .09 inches. USPS® revises the language to clarify that these thickness standards apply only to interior loose enclosures (single sheets that are not captured by the folds) and attachments. The standard for maximum thickness of a finished FSM letter is ¼ inch, the same maximum thickness for all letter-size mail. Additionally, we allow the insertion of remittance envelopes, meeting all requirements for enclosed envelopes within automation letters, as enclosures when the envelopes are incorporated into the first (manufacturing) fold of the quarter-fold mailpiece format.

Two commenters asked that tabs made of material other than paper and tabs with perforations be used as seals for FSMs. To accommodate this request, the current standards that describe the types of materials used to manufacture tabs are expanded to permit their use for both booklets and FSMs. Tabs with perforations may not be used as a seals.

Nine commenters asked for clarification of tab placement and the number of tabs required. Section 201.3.14.4 is revised to clarify sealing mailpieces using tabs. Studies showed that sealing FSMs with one tab did not provide sufficient closure to withstand the rigors of automation processing for letter-size mail. The requirement to seal with a minimum of two tabs is retained.

Two commenters asked to use glue to seal the lead and trail edge instead of gluing along the top edge when the final fold is the bottom edge. We have revised and clarified the language to allow this as an additional sealing option.

One commenter suggested that the paper basis weight is unreasonably high. The basis weight of paper is one of the major factors that affect the machinability of a mailpiece. Pieces prepared with lower paper weight were unable to withstand the rigors of automation processing, resulting in higher rates of damage and jams and a diversion to more costly flat sorter and manual processing methods. We retain the paper basis weights as proposed.

One commenter asked about the perforation cut-tie ratio. The necessary cut to tie ratio is based on many correlative factors. A ratio that provides enough strength to prevent premature breaking of the perforation tie is needed. This need is balanced by the necessity of preparing a perforated line that can be opened by the recipient without causing unintended damage to the mailpiece. Due to the significant variation in cut-to-tie ratios of mailpieces currently in the mailstream, we modified the proposed standard and will allow a 1 to 1 cut-tie ratio for all perforated lines. The Postal Service will monitor the performance of mailpieces prepared with perforations and if the 1 to 1 ratio does not prove sufficient for machine processing, we will modify the standards to require a higher cut to tie ratio. Customers who have mailpieces that do not meet this reduced standard may ask that the FSMs be sent to the Pricing and Classification Service Center for review.

Three commenters asked for clarification regarding the need to print address information in a mid-to-left position. Section 201.3.14.10 is introduced as a recommendation for folded self-mailers produced on uncoated paper. Testing revealed higher rates of delamination and peel-back (cosmetic damage) to the lead edge of uncoated (raw) paper. This type of damage often exceeded ½ inch in length and impeded the ability of letter sorting machines to read address elements.

With this final rule, the Postal Service implements requirements and options that describe the construction of folded self-mailers and other unenveloped mailpieces. These standards allow significant design flexibility while maintaining mailpiece automation compatibility and address most current and proposed designs. Mailers designing and mailing FSMs before the effective date are encouraged to prepare mailpieces using these standards.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

200 Commercial Letters and Cards

201 Physical Standards

* * * * *

3.0 Physical Standards for Machinable and Automation Letters and Cards

* * * * *

3.4 Standards for Letter-Size Pieces Containing Discs (CDs or DVDs)

* * * * *

[Revise the heading and the introductory paragraph of 3.4.4 as follows:]

3.4.4 Dimensions and Shape Standards for Automation-Compatible Unenveloped Disc Carriers:

Each unenveloped disc carrier must meet the basic standards for machinable letters in 1.0 and have the following characteristics:

* * * * *

3.4.5 Unacceptable Characteristics for Automation-Compatible Letter-Size Pieces With Discs

[Revise the introductory paragraph of 3.4.5 as follows:]

Discs in letter-sized envelopes and unenveloped disc carriers may not be enclosed in:

* * * * *

3.5 Maximum Weight, Machinable and Automation Letters and Cards

The following maximum weight limits apply:

* * * * *

[Revise item 3.5b as follows:]

b. Booklets and unenveloped disc carriers—3 ounces.

* * * * *

3.11 Tabs, Tape, and Glue

[Revise the introductory paragraph of 3.11 as follows:]

Tabs may be made of paper, translucent paper, vinyl or plastic. Cellophane tape may also be used as a closure when the saw-toothed cut edge is place perpendicular to the edge being sealed. Tabs must not contain perforations. For tab size and placement for folded self-mailers see 3.14; for booklets see 3.15. Tab placement is subject to ¼ inch variance in either direction. The following standards also apply:

* * * * *

3.14 Folded Self-Mailers

[Delete current text of 3.14, including the exhibit, in its entirety and replace with the following:]

3.14.1 Definition

A folded self-mailer is formed of panels that are created when one or more unbound sheets of paper are folded together and sealed to make a letter-size mailpiece. The number of panels is determined by the number of sheets in the mailpiece and the number of times the sheets are folded.

3.14.2 Physical Characteristics

Folded self-mailers have the following characteristics:

a. Height: A minimum of 3½ inches and a maximum of 6 inches.

b. Length: A minimum of 5 inches and a maximum of 10½ inches.

c. Thickness: A minimum of 0.007 inch; (0.009 inch if the height exceeds 4¼ inches or if the length exceeds 6 inches); the maximum thickness is ¼ inch.

d. Maximum Weight: 3 ounces.

e. Rectangular, with four square corners and parallel opposite sides.

f. Aspect ratio: within 1.3 to 2.5 (see 3.7).

g. Maximum number of panels: 12, except under 3.14.2h.

h. Quarter-folded self-mailers made of a minimum of 100 pound book grade paper may have as few as 4 panels. Quarter-folded self-mailers made of 55 pound or greater newsprint must have at least 8 panels and may contain up to 24 panels.

3.14.3 Panels

Panels are created when a sheet of paper is folded. Each two-sided section (front and back) created by the fold is considered one panel. When a folded self-mailer is made of multiple sheets, multiply the number of sheets by the number of panels created when folding a single sheet to determine the total number of panels. The following conditions apply:

a. External panels created by folding must be equal or nearly equal in size.

b. The final folded panel creates the back (non-address) side of the mailpiece. The open edge of the back panel must be at the top or within 1 inch of the top or trailing edge of the mailpiece.

c. The final folded edge must be the bottom of a folded self-mailer unless prepared as an oblong. The final folded edge of an oblong folded self-mailer must be the leading (right) edge.

d. Internal shorter panels must be covered by a full-size panel, and count toward the maximum number of panels.

e. Folding methods and the subsequent number of panels created when folding a single sheet of paper are:

1. Bi-fold: Folded once forming two panels.

2. Tri-fold: Folded twice forming three panels.

3. Oblong: Paper folded once to form two rectangular panels with one elongated dimension and parallel opposite sides. The final folded edge is on the leading (shorter) edge.

4. Quarter-fold: Folded twice with each fold at a right angle (perpendicular) to the preceding fold. One sheet of paper quarter-folded creates four panels.

f. Flaps are formed when the final exterior panel is folded over and affixed to the unaddressed side of the mailpiece. Flaps must meet the following conditions:

1. The folded edge of a flap must be flush with the top edge of the mailpiece and end one inch or more above the bottom edge, except under 3.14.3f4. Flaps must be at least 1½ inches when measured from the top of the mailpiece.

2. Flaps must be secured by a sealing method in 3.14.4.

3. Flaps with die-cut shapes must be firmly secured with tabs, glue line, glue spots or elongated glue lines. A ⅛ inch wide continuous glue line that seals the contour of the die-cut is strongly recommended.

4. Flaps on oblong pieces must be at least 5 inches long at the longest point when measured from the leading edge and must end more than one inch from the trailing edge.

g. Flaps and pockets prepared within folded self-mailers to stabilize enclosures are not considered to be panels.

3.14.4 Sealing Methods

Folded self-mailers must be sealed using tabs or glue under the following conditions:

a. Tabs must meet the standards for tabs in 3.11. The size and number of tabs required is determined by the weight of the mailpiece and optional design elements as follows:

1. To seal folded self-mailers that weigh up to 3 ounces created in bi-fold, tri-fold formats, pieces with multiple interior folds and a final fold on the bottom, and quarter-fold mailpieces that weigh one ounce or less, place two nonperforated tabs on the top edge, one within 1-inch from the leading and another within 1-inch from the trailing edge, or place one tab on the leading and another on the trailing edge, both placed within 1 inch from the top.

2. To seal quarter-fold mailpieces that weigh more than 1 ounce up to 3 ounces, affix two tabs, one on the leading edge and one on the trailing edge within 1 inch from the top, and affix a third tab on the lower leading edge ½ inch from the bottom (see 3.14.5).

3. To seal oblong pieces that weigh up to 3 ounces, affix one tab in the center of the top edge and one tab in the center of the trailing edge (preferred) or affix both tabs on the trailing edge within 1 inch of the top and bottom edges. Tabs may not be placed on the bottom of an oblong piece.

b. Glue must be positioned within ¼ inch of the open edges and be placed opposite the final fold or on both the leading and trailing edges when the final panel fold is on the bottom. Apply glue by one of the following methods:

1. Continuous glue lines at least ⅛ inch wide (0.125 inches).

2. Three or four glue spots at least ⅜ inch (0.375 inch) in diameter.

3. Three or four elongated glue lines. Seal folded self-mailers that weigh up to 1 ounce with lines at least ½ inch long. Seal folded self-mailers that weigh more than 1 ounce with elongated glue lines that are each at least 1 inch long and ⅛ inch wide, or with glue lines that are each at least ½ inch long and ¼ inch wide.

4. Distribute glue spots and elongated glue lines evenly along the sealed edge(s).

5. Quarter-fold self-mailers must be sealed with tabs.

3.14.5 Paper Weight and Sealing Requirements

All references in 3.0 to paper basis weight are for book-grade paper unless otherwise stated (see 3.2). Interior optional elements such as attachments or enclosures are not subject to the host piece's book-grade paper basis weight standards. When multiple optional design elements are incorporated in one mailpiece, the standards for the design element with the highest paper weight and corresponding sealing methods apply. Folded self-mailer paper weights and sealing methods are:

a. Folded self-mailers, (except quarter-fold mailpieces) as described in 3.14.3e1 through 3.14.3e3:

1. Up to 1 ounce: 70 pound paper sealed with a continuous glue line, three glue spots; or elongated glue lines under 3.14.4b; or two 1-inch tabs under 3.14.4a1 and 3.14.4a3.

2. Over 1 ounce: 80 pound paper sealed with a continuous glue line, four glue spots; or four elongated glue lines under 3.14.4b; or two 1½-inch tabs under 3.14.4a1 and 3.14.4a3.

b. Quarter fold self-mailers as described in 3.14.3e4:

1. Up to 1 ounce: 70 pound paper sealed with two 1-inch tabs.

2. Over 1 ounce: 80 pound paper sealed with three 1½-inch tabs.

3. Newsprint: 55 pound minimum paper required. Seal pieces one ounce or less with two 1½-inch tabs and those weighing over one ounce with three 1½-inch tabs, see 3.14.4a2.

c. Optional design elements: Die-cut openings and perforated panes. Folded self-mailers with die-cut openings in the exterior panels as described in 3.14.6 or perforated panes as described in 3.14.7 must meet the following:

1. Up to 1 ounce: 100 pound paper sealed with glue under 3.14.4b, or two 1½-inch tabs under 3.14.4a1 and 3.14.4a2.

2. Over 1 ounce: 120 pound paper sealed with glue under 3.14.4b, or two 2-inch tabs under 3.14.4a1 and 3.14.4a2 or three 1½-inch tabs under 3.14.4a3.

d. Optional design elements: Loose enclosures or attachments. For folded self-mailers that have loose enclosures as described in 3.14.8 or attachments as described in 3.14.9, the following applies:

1. Up to 1 ounce: 80 pound paper sealed with glue under 3.14.4b or two 1½-inch tabs under 3.14.4a1 and 3.14.4a2.

2. Over 1 ounce: 100 pound paper sealed with glue under 3.14.4b, or two 2-inch tabs under 3.14.4a1 and 3.14.4a2 or three 1½-inch tabs under 3.14.4a3.

3.14.6 Die-Cut Elements

Folded self-mailers may be produced with two types of die-cut elements in the exterior panels: Address windows or die-cut reveal. Die-cut openings may not be used to create die-cut punched holes (openings in the same location on all layers and panels so that there is a hole through the entire mailpiece). Prepare die-cut elements as follows:

a. Die-cut address windows (used to convey address information) must meet standards for window envelopes under 601.6.4 and meet the following additional conditions:

1. The maximum window size is 4 inches long by 2 inches high.

2. When an address window appears on a mailpiece, no other die-cut openings may be made on the exterior panels.

b. Die-cut openings used to reveal the contents of the mailpiece must be:

1. Limited to two on only one external panel.

2. Either circular with a 2-inch maximum diameter or rectangular with a maximum of 2 inches long by 1½ inches high with slightly rounded ¼ inch radius corners.

3. Placed at least 1½ inches from all edges of the mailpiece if on the addressed side.

4. Placed at least 5 inches from the leading edge and 1½ inches from all other edges if on the non-addressed side.

5. Positioned at least 1½ inches apart when two or more die-cut openings are used.

c. A single ½-inch semi-circular die-cut thumb notch may be placed on the trailing edge of the addressed or unaddressed outer panel.

3.14.7 Perforated Pull-Open Strips and Pop-Out Panes

Folded self-mailers may be prepared with strips called panes that are pulled open to reveal the contents. These design elements must be placed only on the unaddressed side of the mailpiece and may be rectangular, circular, or oval shaped. Perforations, a row of small holes punched in a sheet of paper so that a section can be torn easily, are used to create pull-open strips, pop-out, or pop-open panes subject to the following requirements:

a. Two parallel perforated lines must be spaced at least ½ inch apart creating a pull open strip. Position perforated strips parallel to the height of the mailpiece at least 5 inches from the leading edge and 2 inches from the trailing edge. Position perforated strips parallel to the length of the mailpiece at least 1 inch from the top. Perforations have a 1mm cut (max)/1mm tie (min) ratio.

b. Pop-out panes with perforations around the outer edges have a maximum size of 4 inches long by 4 inches high. The following conditions apply:

1. Place panes at least 1 inch from any edge.

2. Use 1mm cut (max)/1mm tie (min) ratio.

3. When using two panes, space them at least 1 inch apart.

4. Address elements may not appear in perforated openings.

c. Pop-open panes with perforations on three sides must meet the following conditions:

1. The outer edges of the pull-open panel are a maximum of 4 inches long by 4 inches high.

2. If prepared with multiple panes, they must be spaced at least 1 inch apart.

3. Panes must be placed at least 1 inch from all edges.

4. Perforation patterns have 1 mm cut (max)/1 mm tie (min) ratio.

d. Perforated panes may not be prepared on pieces with die-cuts or on any mailpiece made of newsprint.

3.14.8 Loose Enclosures

Folded self-mailers with loose enclosures must be securely sealed to ensure containment of the enclosed material and prevent excessive enclosure shift during processing. Loose enclosures must be made of paper and must meet the following conditions:

a. Must be contained securely within the mailpiece.

b. Must be inserted in an interior pocket or secured by any method that prevents excessive shift during normal handling. Pockets are not counted as panels.

c. Folded self-mailers with die-cut openings may contain enclosures only if the inserted material is larger than the die-cut opening.

d. Enclosed material does not exceed the maximum thickness of:

1. 0.05 inch thick for mailpiece weights up to 1 ounce.

2. 0.09 inch thick for mailpiece weights over 1 ounce.

e. One empty reply envelope may be inserted within the first fold (manufacturing fold) of a quarter-folded self-mailer and must be secured within a fold to prevent separation during normal handing.

3.14.9 Attachments

Attachments must be secured on the outside of a folded self-mailer under 3.13. Attachments must be secured within a folded self-mailer under the following conditions:

a. The attachment is affixed to an inside panel and secured to it at least ½ inch from any edge.

b. The attached material may not exceed a maximum thickness of:

1. 0.05 inch thick for mailpieces weighing up to 1 ounce.

2. 0.09 inch thick for mailpieces weighing over 1 ounce.

c. Multiple attachments must be positioned so that the host mailpiece remains nearly uniform in thickness.

d. When multiple attachments are affixed to separate panels in stacked alignment, the combined thickness of the attachments must be no greater than the maximum thickness in 3.14.9b.

e. When multiple attachments are affixed adjacent to each other across the length of a mailpiece, the thickest attachment must be no greater than the maximum thickness in 3.14.9b.

f. Folded self-mailers with die-cut openings may contain attachments if the inserted material is larger than the die-cut opening.

g. Quarter-fold self-mailers may have only one internal attachment not exceeding 0.012 inch thick. The attachment must be secured at least ½ inch from all edges.

3.14.10 Addressing

When folded self-mailers are prepared with uncoated paper, printing addresses in a center or left-justified position within the optical character reader (OCR) area under 2.1 is recommended.

[Renumber current 3.15 through 3.17 as new 3.16 through 3.18 and add new 3.15 as follows:]

3.15 Other Unenveloped Mailpieces

3.15.1 Open-Sleeve Style Letter-Size Mailpieces

Open-sleeve style letter-size mailpieces consists of two symmetrical horizontal panels sealed together along the top and bottom edges or as a bi-fold that has a non-addressed panel permanently sealed to an inner flap along the top edge. Open-sleeve style mailpieces must meet the following conditions:

a. Join panels using ⅛ (0.125) inch continuous glue lines.

b. If flaps are used, they must be a minimum of at least 1½ inches wide created as inner flaps adhered at the leading and trailing edges to the panel from which the flap is formed.

c. All paper basis weight requirements in 3.14.5d must be met.

d. Matter prepared within open-sleeve style mailpieces must meet the standards in 3.14.8 or 3.14.9b through 3.14.9f.

3.15.2 Letter-Size Mailpieces With Tear-Off Strips

When letter-size mailpieces have tear-off strips on the leading and/or trailing edge, any unfolded edges must be sealed with an adhesive (glue) or by a cohesive (pressure seal) method. A cohesive seal requires two fixative patterns placed on two separate surfaces that are compressed to form a bond. A perforated horizontal line that runs between and joins the leading and trailing edge perforation lines is permitted. Mailpieces with sealed sides must meet the following conditions.

a. Be constructed of a minimum of 60 pound paper.

b. Tear-off strips may be up to 9/16 inch (0.5625) wide.

c. Tear lines (single lines of perforations) on pieces that weigh 1 ounce or less; recommended minimum cut/tie pattern of 1 mm cut (max)/1 mm tie (min) ratio or equivalent.

d. Tear lines (single lines of perforations) on pieces that weigh more than 1 ounce; minimum cut/tie pattern of 1 mm cut/2 mm tie (min) ratio or equivalent.

* * * * *

We will publish an appropriate amendment to 39 CFR Part 111 to reflect these changes.

Stanley F. Mires,
Attorney, Legal Policy & Legislative Advice.

[FR Doc. 2011-30879 Filed 11-30-11; 8:45 am]

BILLING CODE 7710-12-P